DEPARTMENT OF LABOR

Employment and Training Administration

[TA-W-62,322]

Precision Industries Fayetteville, AR; Notice of Termination of Investigation

Pursuant to Section 221 of the Trade Act of 1974, as amended, an investigation was initiated on October 23, 2007 in response to a worker petition filed by an official of the United Auto Workers on behalf of workers at Precision Industries, Fayetteville, Arkansas.

The petitioner has requested that the petition be withdrawn. Consequently, the investigation has been terminated.

Signed at Washington, DC, this 5th day of November, 2007.
Elliott S. Kushner,
Certifying Officer, Division of Trade Adjustment Assistance.

[FR Doc. E7-22058 Filed 11-9-07; 8:45 am]

BILLING CODE 4510-FN-P